DEPARTMENT OF DEFENSE

Office of the Secretary

Department of Defense Board of Actuaries; Notice of Federal Advisory Committee Meeting

AGENCY: Under Secretary of Defense for Personnel and Readiness, Department of Defense Board of Actuaries, Department of Defense (DoD).

ACTION: Notice of Federal advisory committee meeting.

SUMMARY: The DoD is publishing this notice to announce that the following Federal advisory committee meeting of the Department of Defense Board of Actuaries will take place.

DATES: Open to the public Friday, September 29, 2023, from 10:00 a.m. to 12:00 p.m.

ADDRESSES: This meeting will be held virtually. For information regarding how to access the meeting, please contact Inger Pettygrove (703) 225-8803 or Inger.m.pettygrove.civ@mail.mil as soon as possible.

FOR FURTHER INFORMATION CONTACT: Inger Pettygrove, (703) 225-8803 (Voice), inger.m.pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: This meeting is being held under the provisions of chapter 10 of title 5 United States Code (U.S.C.) (commonly known as the “Federal Advisory Committee Act” or “FACA”), 5 U.S.C. 552b (commonly known as the “Government in the Sunshine Act”), and 41 CFR 102-3.140 and 102-3.150.

Purpose of the Meeting: The purpose of the meeting is for the Board to review DoD actuarial methods and assumptions to be used in the valuation of the Education Benefits Fund in accordance with the provisions of section 183, section 2006, chapter 74 (10 U.S.C. 1464 et seq.).

Agenda

Education Benefits Fund

1. Fund Overview

2. September 30, 2022, Valuation Proposed Economic Assumptions *

3. September 30, 2022, Valuation Proposed Methods and Assumptions—Reserve Programs *

4. September 30, 2022, Valuation Proposed Methods and Assumptions—Active-Duty Programs *

5. Developments in Education Benefits

* Board approval required

Meeting Accessibility: Pursuant to 5 U.S.C. 552b and 41 CFR 102-3.140 through 102-3.165, this meeting is open to the public.

Written Statements: Persons desiring to attend the DoD Board of Actuaries meeting or make an oral presentation or submit a written statement for consideration at the meeting must notify Inger Pettygrove at (703) 225-8803, or inger.m.pettygrove.civ@mail.mil, by September 15, 2023.

Dated: August 1, 2023.
Aaron T. Siegel,
Alternate OSD Federal Register Liaison Officer, Department of Defense.

[FR Doc. 2023-16726 Filed 8-4-23; 8:45 am]

BILLING CODE P